ENVIRONMENTAL PROTECTION AGENCY

40 CFR Part 52

[EPA-R01-OAR-2009-0696; FRL-9673-4]

Approval and Promulgation of Air Quality Implementation Plans; Maine; Reasonably Available Control Technology (RACT) for the 1997 8-Hour Ozone Standard

AGENCY: Environmental Protection Agency (EPA).

ACTION: Final rule.

SUMMARY: EPA is approving several State Implementation Plan (SIP) revisions submitted by the State of Maine Department of Environmental Protection. These SIP revisions consist of a demonstration that Maine meets the requirements of reasonably available control technology (RACT) for oxides of nitrogen (NOX) and volatile organic compounds (VOCs) set forth by the Clean Air Act (CAA) with respect to the 1997 8-hour ozone standard as well as several new and revised VOC regulations. The intended effect of this action is to approve Maine's RACT demonstration for satisfying the State's RACT SIP revision obligation as of September 15, 2006, and to approve Maine's other submitted SIP regulations. This action is being taken in accordance with the CAA.

DATES: Effective Date: This rule is effective on June 21, 2012.

ADDRESSES: EPA has established a docket for this action under Docket Identification No. EPA-R01-OAR-2009-0696. All documents in the docket are listed on the www.regulations.gov Web site. Although listed in the index, some information is not publicly available, i.e., CBI or other information whose disclosure is restricted by statute. Certain other material, such as copyrighted material, is not placed on the Internet and will be publicly available only in hard copy form. Publicly available docket materials are available either electronically through www.regulations.gov or in hard copy at the Office of Ecosystem Protection, U.S. Environmental Protection Agency, EPA New England Regional Office, Office of Ecosystem Protection, Air Quality Planning Unit, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays.

Copies of the documents relevant to this action are also available for public inspection during normal business hours, by appointment at the State Air Agency: Bureau of Air Quality Control, Department of Environmental Protection, First Floor of the Tyson Building, Augusta Mental Health Institute Complex, Augusta, ME 04333-0017.

FOR FURTHER INFORMATION CONTACT: Ariel Garcia, Air Quality Planning Unit, U.S. Environmental Protection Agency, EPA New England Regional Office, 5 Post Office Square—Suite 100, (Mail Code: OEP05-02), Boston, MA 02109-3912, telephone number (617) 918-1660, fax number (617) 918-0660, email garcia.ariel@epa.gov.

SUPPLEMENTARY INFORMATION: Throughout this document whenever “we,” “us,” or “our” is used, we mean EPA.

The following outline is provided to aid in locating information in this preamble.

I. Background and Purpose

II. Final Action

III. Statutory and Executive Order Reviews

I. Background and Purpose

On March 15, 2012 (77 FR 15329), EPA published a Notice of Proposed Rulemaking (NPR) for the State of Maine. The NPR proposed approval of Maine's RACT demonstration for satisfying the State's RACT SIP revision obligation as of September 15, 2006 and proposed approval of Maine's five other submitted SIP regulations aimed at reducing VOC emissions. Amongst Maine's other submitted SIP regulations are two amended regulations and one newly adopted regulation, covering a total of four of the 11 Control Techniques Guidelines (CTGs) issued since 2006. The state must still address the remaining seven CTGs.

A detailed explanation of the applicable NOX and VOC RACT CAA requirements with respect to the 1997 8-hour ozone standard, as well as EPA's analysis of Maine's RACT SIP submittal and Maine's other VOC regulations were provided in the NPR and will not be restated here. No public comments were received on the NPR.

II. Final Action

EPA is approving Maine's RACT demonstration as meeting the state's SIP revision obligation as of September 15, 2006 with respect to the 1997 8-hour ozone standard. EPA is also approving and incorporating into the Maine SIP an amendment (A-459-71-D-A, also referred to as “Amendment #2”) of the Air Emission License A-459-72-B-R issued to the McCain Foods USA, Inc., Tatermeal facility.

In addition, EPA is also approving the following Maine regulations and incorporating them into the Maine SIP: Revised Chapter 131, Cutback Asphalt and Emulsified Asphalt Regulation; revised Chapter 123, Control of Volatile Organic Compounds from Paper, Film and Foil Coating Operations; revised Chapter 129, Surface Coating Facilities; revised Chapter 152, Control of Volatile Organic Compounds from Consumer Products; and newly adopted Chapter 161, Graphic Arts—Lithography and Letterpress Printing.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 23, 2012. Filing a petition for reconsideration by the Administrator of this final rule does not affect the finality of this action for the purposes of judicial review nor does it extend the time within which a petition for judicial review may be filed, and shall not postpone the effectiveness of such rule or action. This action may not be challenged later in proceedings to enforce its requirements. (See CAA section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: May 8, 2012.
Ira W. Leighton,
Acting Regional Administrator, EPA Region 1.

Part 52 of chapter I, title 40 of the Code of Federal Regulations is amended as follows:

PART 52—[AMENDED]

1. The authority citation for part 52 continues to read as follows:

Authority: 42 U.S.C. 7401 et seq.

Subpart U—Maine

2. Section 52.1020 is amended by:

a. Amending the table in paragraph (c) entitled “EPA-Approved Maine Regulations” by revising entries for Chapters 123, 129, 131, and 152, and adding a new entry in numerical order for Chapter 161.

b. Amending the table in paragraph (d) entitled “EPA-Approved Maine Source Specific Requirements” by adding a new entry at the end of the table for McCain Foods.

c. Amending the table in paragraph (e) entitled “Maine Non Regulatory” by adding a new entry at the end of the table for Reasonably Available Control Technology Demonstration (RACT).

The revisions and additions read as follows:

§ 52.1020 Identification of plan.

* * * * *

(c) EPA approved regulations.

EPA-Approved Maine Regulations
State citation | Title/subject | State effective date | EPA approval date | Explanations
* * * * * * *
Chapter 123 | Control of Volatile Organic Compounds from Paper, Film, and Foil Coating Operations | 05/18/2010 | 05/22/2012 [Insert Federal Register page number where the document begins].
* * * * * * *
Chapter 129 | Surface Coating Facilities | 04/16/2011 | 05/22/2012 [Insert Federal Register page number where the document begins].
* * * * * * *
Chapter 131 | Cutback Asphalt and Emulsified Asphalt | 09/15/2009 | 05/22/2012 [Insert Federal Register page number where the document begins].
* * * * * * *
Chapter 152 | Control of Volatile Organic Compounds from Consumer Products | 12/15/2007 | 05/22/2012 [Insert Federal Register page number where the document begins].
* * * * * * *
Chapter 161 | Graphic Arts—Offset Lithography and Letterpress Printing | 04/06/2010 | 05/22/2012 [Insert Federal Register page number where the document begins].
* * * * * * *

(d) EPA-approved State Source specific requirements.

EPA-Approved Maine Source Specific Requirements
Name of source | Permit No. | State effective date | EPA approval date | Explanations
* * * * * * *
McCain Foods USA, Inc., Tatermeal Facility | Amendment #2 of Air Emission License A-459-72-B-R | 03/19/2003 | 05/22/2012 [Insert Federal Register page number where the document begins].

(e) Nonregulatory.

Maine Non Regulatory
Name of non regulatory SIP provision | Applicable geographic or nonattainment area | State submittal date/effective date | EPA-approved date | Explanations
* * * * * * *
Reasonably Available Control Technology Demonstration (RACT) for the 1997 8-hour Ozone National Ambient Air Quality Standard | Statewide | Submitted 08/27/2009 | 05/22/2012 [Insert Federal Register page number where the document begins].

[FR Doc. 2012-12226 Filed 5-21-12; 8:45 am]

BILLING CODE 6560-50-P